INTERNATIONAL TRADE COMMISSION

[Investigation No. 337-TA-1426]

Certain Crafting Machines and Components Thereof; Notice of a Commission Determination Not To Review an Initial Determination Amending the Complaint and Notice of Investigation and Extending the Target Date

AGENCY: U.S. International Trade Commission.

ACTION: Notice.

SUMMARY: Notice is hereby given that the U.S. International Trade Commission (“Commission”) has determined not to review an initial determination (“ID”) (Order No. 10) issued by the presiding administrative law judge (“ALJ”) granting an unopposed motion to amend the complaint and notice of investigation (“NOI”) by terminating a current respondent, Hunan Sijiu Electronic Technology Co. (“HSET”), adding a new respondent, HK Sijiu International Share Co. (“HK Sijiu”), and adding allegations of infringement of a new design patent, U.S. Design Patent No. D877,214 (“the 'D214 patent”). The Commission has also determined not to review the ALJ's extension of the target date to May 13, 2026.

FOR FURTHER INFORMATION CONTACT: Carl Bretscher, Office of the General Counsel, U.S. International Trade Commission, 500 E Street SW, Washington, DC 20436, telephone 202-205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on December 11, 2024, based on a complaint filed on behalf of Cricut, Inc. of South Jordan, Utah (“Cricut”). 89 FR 99905 (Dec. 11, 2024). The complaint, as supplemented, alleges violations of section 337 of the Tariff Act of 1930, as amended, 19 U.S.C. 1337, in the importation into the United States, the sale for importation, and the sale within the United States after importation of certain crafting machines and components thereof by reason of infringement of certain claims of U.S. Patent No. 11,208,758 (“the '758 patent”); U.S. Patent No. 11,905,646 (“the '646 patent”); U.S. Patent No. D893,563 (“the 'D563 patent”); U.S. Patent No. D910,724 (“the 'D724 patent”); U.S. Patent No. D926,237 (“the 'D237 patent”); and U.S. Patent No. D1,029,090 (“the 'D090 patent”). Id. The complaint further alleges that an industry in the United States exists as required by the applicable Federal Statute. The Commission's notice of investigation names eight (8) respondents, including HSET of Changsha, China, and SainStore Technology Co., Ltd. of Dongguan City, China (“SainStore”). Id. at 99905-906. The Office of Unfair Import Investigations (“OUII”) is also named as a party. Id. at 99906.

On January 31, 2025, the Commission partially terminated the investigation as to SainStore based on a consent order stipulation and issued a consent order against SainStore. Order No. 5 (Jan. 8, 2025), unreviewed by Comm'n Notice (Jan. 31, 2025).

On January 16, 2025, Cricut filed an unopposed motion to amend the complaint and NOI by terminating HSET from the investigation and adding a new respondent, HK Sijiu. On February 4, 2025, Cricut moved to amend the complaint and NOI by adding allegations of infringement of the 'D214 design patent, and to extend the target date by one month. OUII filed a response in support of both of Circuit's motions on February 14, 2025.

On March 6, 2025, the ALJ issued the subject ID (Order No. 10), finding good cause to grant Cricut's motions to terminate the investigation as to the respondent HSET and to add HK Sijiu as a new respondent. Order No. 10 (Mar. 6, 2025). The ALJ also found that there are no agreements, written or oral, express or implied, between the parties concerning the subject matter of the investigation, and that the amendments will not prejudice any of the parties or the public interest. The ALJ also found good cause to add the 'D214 patent to the investigation and to extend the target date by one month, to May 13, 2026.

No petitions to review the subject ID were filed.

The Commission has determined not to review the subject ID. Accordingly, respondent HSET is hereby terminated from this investigation, and HK Sijiu is added as a respondent to this investigation. The 'D214 patent is added to this investigation as well. The target date is extended to May 13, 2026. The deadline for issuing the final initial determination has been extended to January 13, 2026.

The Commission vote for this determination took place on April 3, 2025.

The authority for the Commission's determination is contained in section 337 of the Tariff Act of 1930, as amended (19 U.S.C. 1337), and in part 210 of the Commission's Rules of Practice and Procedure (19 CFR part 210).

By order of the Commission.
Issued: April 3, 2025.
Lisa Barton,
Secretary to the Commission.

[FR Doc. 2025-06022 Filed 4-7-25; 8:45 am]

BILLING CODE 7020-02-P